DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Federal Hotel and Motel Fire Safety Declaration Form.

OMB Number: 1660-0068.

Abstract: Public Law 101-391 requires FEMA ¹ to establish and maintain a National Master List (NML) of fire safe places of public accommodations. The information collected will be available electronically to the general public identifying properties meeting the specified level of fire safety equipment as required in the public law. It is also available to Federal employees required by Public Law 101-391 to stay at properties on the NML when on official travel.

¹ The Federal Hotel and Motel Fire Safety Declaration Form is administered by the United States Fire Administration, which is currently being transferred to the newly created Preparedness Directorate of the Department of Homeland Security. During this transition FEMA, also part of the Department of Homeland Security, will continue to support this program as the new Directorate stands up. Ultimately this data collection will be transferred to the Preparedness Directorate.

Affected Public: Business or other for-Profit, Not-For-Profit Institutions, and the Federal Government.

Number of Respondents: 2,000.

Estimated Time per Respondent: 25 minutes.

Estimated Total Annual Burden Hours: 500.

Frequency of Response: Once.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before March 3, 2006.

FOR FURTHER INFORMATION CONTACT: Requests for additional information or copies of the information collection should be made to Section Chief, Records Management, FEMA at 500 C Street, SW., Room 316, Washington, DC 20472, facsimile number (202) 646-3347, or e-mail address FEMA-Information-Collections@dhs.gov.

Dated: January 25, 2006.
George Trotter,
Acting Branch Chief, Information Resources Management Branch, Information Technology Services Division.

[FR Doc. E6-1333 Filed 1-31-06; 8:45 am]

BILLING CODE 9110-17-P